DEPARTMENT OF THE INTERIOR

Bureau of Ocean Energy Management

[BOEM-2011-0082]

Right-of-Way Grant of Submerged Lands on the Outer Continental Shelf to Support Renewable Energy Development

AGENCY: Bureau of Ocean Energy Management (BOEM), Interior.

ACTION: Request for comment.

SUMMARY: BOEM Form 0009 would be used to issue Outer Continental Shelf (OCS) renewable energy right-of-way (ROW) grants in order to streamline this process and increase efficiency and consistency for applicants. As defined by BOEM regulations at 30 CFR Part 585, an ROW grant is an authorization issued for use of a portion of the OCS for the construction and use of a cable or pipeline for the purpose of gathering, transmitting, distributing, or otherwise transporting electricity or other energy product generated or produced from renewable energy, but does not constitute a project easement. The ability of an ROW grantee to install such a cable or pipeline and operate such activities would be subject to the applicable approvals specified in 30 CFR Part 585. BOEM has developed the form included in this notice and invites comments on the draft form. Following the 30-day comment period, BOEM will review all submitted comments, and publish a final version of the form in the Federal Register.

DATES: Submit written comments by September 28, 2012.

FOR FURTHER INFORMATION CONTACT: Maureen A. Bornholdt, Program Manager, Office of Renewable Energy Programs at (703) 787-1300.

ADDRESSES: You may submit comments by either of the following methods listed below.

• Electronically: go to http://www.regulations.gov. In the entry titled “Enter Keyword or ID,” enter docket BOEM-2011-0082 then click “search.” Follow the instructions to submit public comments and view supporting and related materials. All comments will be posted on www.regulations.gov.

• Mail or hand-carry comments to the Department of the Interior; Bureau of Ocean Energy Management; Attention: Jennifer Golladay; 381 Elden Street, HM 1328; Herndon, Virginia 20170. Please reference the docket number and title in your comment and include your name and return address.

Public Comment Procedures: Before including your address, phone number, email address, or other personal identifying information in your comment, you should be aware that your entire comment—including your personally identifiable information—may be made publicly available at any time. While you may ask us in your comment to withhold particular information from public view, we cannot guarantee that we will be able to do so. Information that is not labeled as privileged or confidential will be regarded as suitable for public release.

Authority: 43 U.S.C. 1331 et seq.

Dated: August 20, 2012.
Tommy P. Beaudreau,
Director, Bureau of Ocean Energy Management.

[FR Doc. 2012-21275 Filed 8-28-12; 8:45 am]

BILLING CODE 4310-MR-P